DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations begin or threatened to begin and the subdivision of the firm involved.

The petitioners or any other persons showing a substantial interest in the subject matter of the investigations may request a public hearing, provided such request is filed in writing with the Director, Division of Trade Adjustment Assistance, at the address shown below, not later than December 9, 2002.

Interested persons are invited to submit written comments regarding the subject matter of the investigations to the Director, Division of Trade Adjustment Assistance, at the address shown below, not later than December 9, 2002.

The petitions filed in this case are available for inspection at the Office of the Director, Division of Trade Adjustment Assistance, Employment and Training Administration, U.S. Department of Labor, Room C-5311, 200 Constitution Avenue, NW., Washington, DC 20210.

Signed in Washington, DC this 8th day of November, 2002.
Edward A. Tomchick,
Director, Division of Trade Adjustment Assistance.

Appendix—Petitions Instituted Between November 4, 2002 and November 8, 2002
TA-W | Subject firm (petitioners) | Location | Date of institution | Date of petition
50,001 | Reliant Bolt, Inc (USS) | Bedford Park, IL | 11/04/2002 | 11/04/2002
50,002 | Longview Fibre Leavenworth Wood Products (CIW) | Leavenworth, WA | 11/04/2002 | 11/04/2002
50,003 | Weyerhaeuser Longview Lumber (IAM) | Longview, WA | 11/04/2002 | 11/04/2002
50,004 | Spang and Company (IBEW) | East Butler, PA | 11/04/2002 | 11/04/2002
50,005 | Bottoms Group, Inc. (Comp) | Auburn, ME | 11/05/2002 | 11/04/2002
50,006 | Sherman Lumber Company (Wkrs) | Sherman Station, ME | 11/05/2002 | 11/04/2002
50,007 | Newell Rubbermaid (Wkrs) | Freeport, IL | 11/05/2002 | 11/04/2002
50,008 | Storage Technology Corp. (Wkrs) | Brooklyn Park, MN | 11/05/2002 | 11/04/2002
50,009 | Dodger Industries, Inc. (Comp) | Eagle Grove, IA | 11/05/2002 | 11/04/2002
50,010 | Vulcan Chemicals (Wkrs) | Wichita, KS | 11/05/2002 | 11/04/2002
50,011 | Cooper Power Systems (Comp) | E. Stroudsburg, PA | 11/05/2002 | 11/04/2002
50,012 | PD Wire and Cable (Comp) | Laurinburg, NC | 11/06/2002 | 11/05/2002
50,013 | Georgia Pacific Corp., OSB Plant (PACE) | Baileyville, ME | 11/06/2002 | 11/04/2002
50,014 | KWIKSET, Subsidiary of Black and Decker (Comp) | Waynesboro, GA | 11/06/2002 | 11/05/2002
50,015 | Houlton International Corp. (Comp) | Houlton, ME | 11/06/2002 | 11/05/2002
50,016 | Laird Technologies (Wkrs) | Del. Watergap, PA | 11/06/2002 | 11/05/2002
50,017 | Blue bird Midwest (Wkrs) | Mt. Pleasant, IA | 11/06/2002 | 11/05/2002
50,018 | Value Finishing Company (Comp) | Mentor, OH | 11/06/2002 | 11/05/2002
50,019 | Domtar AW, WI Operations (PACE) | Port Edwards, WI | 11/06/2002 | 11/05/2002
50,020 | DMI-Arkansas, Inc. (Wkrs) | Bald Knob, AR | 11/06/2002 | 11/05/2002
50,021 | Buehler Motor, Inc. (Comp) | Kinston, NC | 11/06/2002 | 11/05/2002
50,022 | Andrew Corporation (Comp) | Richardson, TX | 11/06/2002 | 11/04/2002
50,023 | Andrew Corporation (Comp) | Burlington, IA | 11/06/2002 | 11/04/2002
50,024 | Hudson Respitory Care, Inc. (Comp) | Argyle, NY | 11/06/2002 | 11/04/2002
50,025 | Andrew Corporation (Comp) | Orland Park, IL | 11/07/2002 | 11/04/2002
50,026 | Andrew Corporation (Comp) | Addison, IL | 11/07/2002 | 11/04/2002
50,027 | Stimson Lumber Company (Comp) | Libby, MT | 11/07/2002 | 11/06/2002
50,028 | Tyco Electronics (Comp) | Winston-Salem, NC | 11/07/2002 | 11/05/2002
50,029 | Half Moon Bay Fisheries (Comp) | Kodiak, AK | 11/07/2002 | 11/05/2002
50,030 | Fishing Vessel Kiavak (Comp) | Kodiak, AK | 11/07/2002 | 11/05/2002
50,031 | Saunders Brothers, Inc. (Wkrs) | Westbrook, ME | 11/07/2002 | 11/07/2002
50,032 | Kent, Inc. (Comp) | Fort Kent, ME | 11/07/2002 | 11/05/2002
50,033 | Carolina Circuits, a/k/a CMAC of America (Comp) | Greenville, SC | 11/07/2002 | 11/06/2002
50,034 | Plastic Products Co. (Comp) | Moline, IL | 11/08/2002 | 11/05/2002
50,035 | Strong Wood Products, Inc. (Comp) | Strong, ME | 11/08/2002 | 11/04/2002
50,036 | Nortel Network (Wkrs) | RTP, NC | 11/08/2002 | 11/05/2002
50,037 | Hubbard Company (The) (Comp) | Breman GA | 11/08/2002 | 11/06/2002
50,038 | Hi Specialty America (Wkrs) | Irwin, PA | 11/08/2002 | 11/05/2002
50,039 | Vista Wood Products (Comp) | Lafayette, TN | 11/08/2002 | 11/07/2002
50,040 | Vista Wood Products (Comp) | Greensburg, KY | 11/08/2002 | 11/07/2002
50,041 | Woods Industries (Comp) | Carmel, IN | 11/08/2002 | 11/06/2002
50,042 | Chamco Equipment (Comp) | Vancouver, WA | 11/08/2002 | 11/05/2002
50,043 | Dynagear, Inc. (Comp) | York, PA | 11/08/2002 | 11/05/2002

[FR Doc. 02-30061 Filed 11-26-02; 8:45 am]

BILLING CODE 4510-30-M